COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds products and a service to the Procurement List that will be furnished by nonprofit agencies employing persons who are blind or have other severe disabilities, and deletes products and services from the Procurement List previously furnished by such agencies.

DATES: Date added to and deleted from the Procurement List: October 14, 2018.

ADDRESSES: Committee for Purchase From People Who Are Blind or Severely Disabled, 1401 S Clark Street, Suite 715, Arlington, Virginia, 22202-4149.

FOR FURTHER INFORMATION CONTACT: Michael R. Jurkowski, Telephone: (703) 603-2117, Fax: (703) 603-0655, or email CMTEFedReg@AbilityOne.gov.

SUPPLEMENTARY INFORMATION:

Additions

On 5/18/2018 (83 FR 97), 5/25/2018 (83 FR 102), 6/4/2018 (83 FR 107), and 6/8/2018 (83 FR111), the Committee for Purchase From People Who Are Blind or Severely Disabled published notices of proposed additions to the Procurement List.

After consideration of the material presented to it concerning capability of qualified nonprofit agencies to provide the products and a service and impact of the additions on the current or most recent contractors, the Committee has determined that the products and a service listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products and service to the Government.

2. The action will result in authorizing small entities to furnish the products and service to the Government.

3. There are no known regulatory alternatives which would accomplish the objectives of the Javits-Wagner-O'Day Act (41 U.S.C. 8501-8506) in connection with the products and service proposed for addition to the Procurement List.

End of Certification

Accordingly, the following products and service are added to the Procurement List:

Products

NSN(s)—Product Name(s): 7920-00-655-5290—Pad, Scouring, Synthetic, Heavy Duty, Yellow and Green, 4-½″ × 3″ × ½″

Mandatory for: Total Government Requirement

Mandatory Source(s) of Supply: The Lighthouse for the Blind in New Orleans, Inc., New Orleans, LA

Contracting Activity: General Services Administration, Fort Worth, TX

Distribution: A-List

NSN(s)—Product Name(s): 7025-00-NIB-0013—PC Keyboard, USB, Black

Mandatory for: Broad Government Requirement

Mandatory Source of Supply: LC Industries, Inc., Durham, NC

Contracting Activity: General Services Administration, New York, NY

Distribution: B-List

Note: The Committee for Purchase From People Who Are Blind or Severely Disabled published a document in the Federal Register of May 25, 2018, concerning an incorrect notice of deletion for PC Keyboard, USB, Black. As shown immediately above, the notice should read.

Mandatory for: Broad Government Requirement and Distribution: B-List.

NSN(s)—Product Name(s): 4330-01-189-1007—Filter-Separator, Liquid Fuel

Mandatory Source(s) of Supply: Georgia Industries for the Blind, Bainbridge, GA

Mandatory for: 100% of the requirement of the Department of Defense

Contracting Activity: Defense Logistics Agency Land and Maritime

Distribution: C-List

NSN(s)—Product Name(s): 2540-01-165-6136—Chock, Wheel-Track, Wood, 7-¾″ × 5-¾″

Mandatory Source(s) of Supply: NewView Oklahoma, Inc., Oklahoma City, OK

Mandatory for: 100% of the requirement of the Department of Defense

Contracting Activity: Defense Logistics Agency Land and Maritime

Distribution: C-List

Service

Service Type: Grounds Maintenance and Snow Removal Service

Mandatory for: U.S. Navy, NAVFAC Mid-Atlantic Division:

Naval Station Newport Complex, Newport, RI;

Naval Undersea Warfare Center Division, Newport, RI;

Fishers Island, NY & Dodge Pond, NY;

Naval Health Clinic New England, Newport, RI;

9324 Virginia Avenue, Norfolk, VA

Mandatory Source of Supply: CW Resources, Inc., New Britain, CT

Contracting Activity: Dept. of the Navy, Naval FAC Engineering CMD MID LANT

Deletions

On 7/27/2018 (83 FR 145) and 8/3/2018 (83 FR 150), the Committee for Purchase From People Who Are Blind or Severely Disabled published notices of proposed deletions from the Procurement List.

After consideration of the relevant matter presented, the Committee has determined that the products and services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and services to the Government.

3. There are no known regulatory alternatives which would accomplish the objectives of the Javits-Wagner-O'Day Act (41 U.S.C. 8501-8506) in connection with the products and services deleted from the Procurement List.

End of Certification

Accordingly, the following products and services are deleted from the Procurement List:

Products

NSN(s)—Product Name(s): 6230-01-617-3776—Kit, Safety Flare, Programmable Flicker Pattern, Red LED, 8in Diameter, AA Battery Operated 6230-01-617-6959—Kit, Safety Flare, Programmable Flicker Pattern, Red LED, 8in Diameter, Rechargeable Power Unit

Mandatory Source(s) of Supply: Tarrant County Association for the Blind, Fort Worth, TX

Contracting Activity: Defense Logistics Agency Troop Support

NSN(s)—Product Name(s): 6545-07-000-0762—USMC Individual First Aid Kit, Complete 6545-09-000-2727—Minor First Aid Kit, USMC Individual First Aid Kit

Mandatory Source(s) of Supply: Chautauqua County Chapter, NYSARC, Jamestown, NY

Contracting Activity: Commander, Quantico, VA

Services

Service Type: Janitorial Service

Mandatory for: Customs and Border Protection, B.P. Maintenance, 398 E. Aurora Drive, El Centro, CA

Mandatory Source(s) of Supply: ARC-Imperial Valley, El Centro, CA

Contracting Activity: U.S. Customs and Border Protection, Border Enforcement Contracting Division

Service Type: Janitorial/Custodial Service

Mandatory for: Naval Reserve Center: 85 Sea Street, Quincy, MA

Mandatory Source(s) of Supply: Community Workshops, Inc., Boston, MA

Contracting Activity: Dept. of the Navy, Navy Crane Center

Michael R. Jurkowski,
Business Management Specialist, Business Operations.

[FR Doc. 2018-20034 Filed 9-13-18; 8:45 am]

BILLING CODE 6353-01-P